EXECUTIVE OFFICE OF THE PRESIDENT

Office of National Drug Control Policy

Appointment of Members of Senior Executive Service Performance Review Board

AGENCY: Office of National Drug Control Policy (ONDCP).

ACTION: Notice of Appointments.

SUMMARY: The following persons have been appointed to the ONDCP Senior Executive Service Performance Review Board: Ms. Martha Gagné (as Chair), Mr. Kemp Chester, Mr. Eric Talbot, and Ms. Michele Marx.

FOR FURTHER INFORMATION CONTACT: Please direct any questions to Robert Kent, General Counsel, (202) 881-8815, Office of National Drug Control Policy, Executive Office of the President, Washington, DC 20503.

Dated: July 26, 2021.
Robert Kent,
General Counsel.

[FR Doc. 2021-16167 Filed 7-28-21; 8:45 am]

BILLING CODE 3280-F5-P